DEPARTMENT OF HOMELAND SECURITY

Federal Emergency Management Agency

44 CFR Part 67

[Docket No. FEMA-B-7799]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before November 10, 2008.

ADDRESSES: The corresponding preliminary Flood Insurance Rate Map (FIRM) for the proposed BFEs for each community are available for inspection at the community's map repository. The respective addresses are listed in the table below.

You may submit comments, identified by Docket No. FEMA-B-7799, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
St. Tammany Parish, Louisiana, and Incorporated Areas
Abita Creek | Approximately 2,960 feet downstream from confluence with Abita Creek Tributary 1 | None | +46 | Unincorporated Areas of St. Tammany Parish.
| Approximately 45 feet downstream from intersection with Churchill Downs Dr | None | +116
Abita Creek Tributary 1 | From confluence with Abita Creek | None | +48 | Unincorporated Areas of St. Tammany Parish.
| To 1 mile upstream of confluence with Abita Creek | None | +51
Abita River Tributary 1 | From confluence with Abita River | None | +23 | Unincorporated Areas of St. Tammany Parish.
| Approximately 1,077 feet from intersection with State Highway 36 | None | +28
Bayou Chinchuba | Approximately 7,285 feet downstream from intersection with Interstate 190 | None | +12 | Unincorporated Areas of St. Tammany Parish, Town of Mandeville.
| Approximately 6,560 feet downstream from intersection with Lotus Rd./Henry Meiners Rd | None | +26
Bayou Lacombe | Approximately 182 feet upstream from intersection with Interstate 190 | None | +10 | Unincorporated Areas of St. Tammany Parish.
| Approximately 2,993 feet upstream from intersection with State Highway 36 | None | +40
Bayou Lacombe Tributary 1 | From confluence with Bayou Lacombe | None | +11 | Unincorporated Areas of St. Tammany Parish.
| At intersection with N. Pontchartrain Dr | None | +20
Bayou Lacombe Tributary 2 | From confluence of Bayou Lacombe | None | +16 | Unincorporated Areas of St. Tammany Parish.
| Approximately 50 feet upstream of intersection with Fish Hatchery Road | None | +19
Bayou Lacombe Tributary 4 | From confluence with Bayou Lacombe | None | +21 | Unincorporated Areas of St. Tammany Parish.
| Approximately 143 feet downstream from intersection with Fish Hatchery Road | None | +25
Bayou Lacombe Tributary 5 | From confluence with Bayou Lacombe | None | +26 | Unincorporated Areas of St. Tammany Parish.
| Approximately 6,789 feet upstream from intersection with Beaver Ball Rd | None | +36
Bayou Lacombe Tributary 6 | From confluence with Bayou Lacombe | None | +34 | Unincorporated Areas of St. Tammany Parish.
| Approximately 7,560 feet upstream from intersection with Hickory Highway | None | +44
Bayou Liberty | Approximately 4,328 feet downstream fro intersection with Tammany Trace Bike Trail | None | +10 | Unincorporated Areas of St. Tammany Parish, City of Slidell.
| Approximately 105 feet downstream from intersection with Horse Shoe Island Road | None | +36
Bayou Liberty Tributary 3 | From confluence with Bayou Liberty | None | +17 | Unincorporated Areas of St. Tammany Parish, City of Slidell.
| Approximately 930 feet upstream from intersection with Belair Blvd | None | +24
Bayou Paquet | Approximately 2,584 feet downstream from intersection with Park Drive/Park Avenue | None | +11 | Unincorporated Areas of St. Tammany Parish.
| Approximately 182 feet downstream from intersection with Tammany Trace Bike Trail | None | +14
Bayou Tete L'Ours | Approximately 8,905 feet from confluence with Tchefuncte River | +9 | +11 | Unincorporated Areas of St. Tammany Parish.
| Approximately 100 feet downstream from intersection with Thackery St | +16 | +15
Bayou de Zaire | Approximately 443 feet downstream from intersection with Dummy Line Rd | None | +11 | Unincorporated Areas of St. Tammany Parish.
| Approximately 4,019 feet upstream from intersection with Galatas Rd | None | +19
Bedico Creek | Approximately 11,000 feet downstream from intersection with Jim Willie Rd | None | +48 | Unincorporated Areas of St. Tammany Parish.
| Approximately 2,128 feet upstream from intersection with Jim Willie Rd | None | +59
Bedico Creek Tributary 1 | Approximately 63 feet upstream from intersection with Gottschaulk Rd | None | +41 | Unincorporated Areas of St. Tammany Parish.
| At the intersection with Hoover Rd | None | +50
Bedico Creek Tributary 2 | From confluence with Bedico Creek | None | +47 | Unincorporated Areas of St. Tammany Parish.
| Approximately 3,010 feet upstream from confluence with Bedico Creek | None | +50
Big Branch Bayou | Approximately 225 feet upstream from intersection with Interstate 12 | None | +22 | Unincorporated Areas of St. Tammany Parish.
| Approximately 7,922 feet upstream from intersection with N. Dixie Ranch Rd | None | +27
Big Branch Marsh Tributary 1 | Approximately 93 feet upstream from intersection with Tammany Trace Bike Trail | None | +11 | Unincorporated Areas of St. Tammany Parish.
| Approximately 6,776 feet upstream from intersection with Lynwood Rd | None | +22
Black River | Approximately 215 feet downstream from intersection with Old Ponchatoula Highway | None | +11 | Unincorporated Areas of St. Tammany Parish.
| Approximately 3,163 feet upstream from intersection with Brewster Rd | None | +23
Black River Tributary 1 | From confluence with Black River | None | +11 | Unincorporated Areas of St. Tammany Parish.
| Approximately 180 feet upstream from intersection with Perriloux Rd | None | +17
Black River Tributary 1 Unnamed Tributary | From confluence with Black River Tributary 1 | None | +13 | Unincorporated Areas of St. Tammany Parish.
| Approximately 1,205 feet upstream from intersection with Oak Park Dr | None | +16
Blue Swamp Tributary 1 | Approximately 3,427 feet downstream from intersection with Tammany Trace Bike Trail | None | +32 | Unincorporated Areas of St. Tammany Parish.
| Approximately 2,560 feet upstream from intersection with North Collins Boulevard | None | +42
Bogue Chitto River | From confluence of Simmons Creek | None | +65 | Unincorporated Areas of St. Tammany Parish, Village of Sun.
| Approximately 6,024 feet upstream from confluence with Sandy Slough | None | +86
Bogue Falaya Tributary 1 | From confluence with Bogue Falaya | None | +18 | Unincorporated Areas of St. Tammany Parish, City of Covington.
| Approximately 286 feet upstream from intersection with Joseph Rd | None | +29
Cane Bayou | Approximately 844 feet downstream from intersection with Tammany Trace Bike Trail | None | +10 | Unincorporated Areas of St. Tammany Parish.
| Approximately 1155 feet upstream from intersection with Log Cabin Rd | None | +24
Cane Bayou Tributary 1 | From confluence with Cane Bayou | None | +10 | Unincorporated Areas of St. Tammany Parish.
| Approximately 4,756 feet upstream from intersection with Area 3 Group Camp Road | None | +11
Cane Bayou Tributary 2 | From confluence with Cane Bayou | None | +14 | Unincorporated Areas of St. Tammany Parish.
| At the intersection with Log Cabin Rd | None | +27
Coon Fork | From confluence with Abita Creek | None | +71 | Unincorporated Areas of St. Tammany Parish.
| Approximately 7,776 feet upstream from confluence with Abita Creek | None | +106
Crooked Bayou | From confluence with Old River | None | +71 | Unincorporated Areas of St. Tammany Parish.
| To confluence of Nichols Creek | None | +74
Cypress Bayou | Approximately 88 feet downstream from the intersection with U.S. Highway 190 | +12 | +13 | Unincorporated Areas of St. Tammany Parish.
| Approximately 1,760 feet upstream from intersection with Firetower Road | None | +29
Double Branch | Approximately 745 feet upstream from confluence with Mule Bay | None | +56 | Unincorporated Areas of St. Tammany Parish.
| Approximately 8,199 feet upstream from intersection with State Route 435 | None | +85
East Bedico Creek | Approximately 5,317 feet downstream from confluence with Fox Branch | None | +17 | Unincorporated Areas of St. Tammany Parish.
| Approximately 3,385 feet upstream from intersection with N. Collins Blvd | None | +38
East Bedico Creek Tributary 1 | Approximately 797 feet North of Adrienne St. (Parish boundary, no other references) | None | +17 | Unincorporated Areas of St. Tammany Parish.
| Approximately 1,414 feet Southwest of Lavigne Rd./Approximately 5,057 feet from Parish boundary | None | +21
East Bedico Creek Tributary 2 | Approximately 2,469 feet upstream from confluence with East Bedico Creek | None | +25 | Unincorporated Areas of St. Tammany Parish.
| Approximately 1,378 feet upstream from intersection with N. Collins Blvd | None | +37
East Bedico Creek Tributary 3 | From confluence with East Bedico Creek | None | +26 | Unincorporated Areas of St. Tammany Parish.
| Approximately 63 feet downstream from intersection with State Route 1077 | None | +47
East Bedico Creek Tributary 3 Unnamed Tributary | From confluence with East Bedico Creek Tributary 3 | None | +38 | Unincorporated Areas of St. Tammany Parish.
| Approximately 9,372 feet upstream from confluence with East Bedico Creek Tributary 3 | None | +49
English Branch Tributary 1 | From confluence with English Branch | None | +44 | Unincorporated Areas of St. Tammany Parish.
| Approximately 7,212 feet upstream from confluence with English Branch | None | +50
Fox Branch | From confluence with East Bedico Creek | None | +20 | Unincorporated Areas of St. Tammany Parish.
| Approximately 3,319 feet upstream from intersection with Perriloux Road | None | +25
French Branch | At intersection with Interstate Route 10 | None | +17 | Unincorporated Areas of St. Tammany Parish, City of Slidell, Town of Pearl River.
| Approximately 443 feet upstream from intersection with Highway Department Road | None | +26
Gum Bayou Tributary | Approximately 450 feet upstream from intersection with Interstate 59 | None | +14 | Unincorporated Areas of St. Tammany Parish.
| Approximately 710 feet upstream from intersection with Hudson Rd | None | +30
Gum Creek | At the intersection with State Route 36 | None | +41 | Unincorporated Areas of St. Tammany Parish.
| Approximately 4,638 feet upstream from intersection with East Archie Singletary Road | None | +42
Holden's Creek | At intersection with State Route 16 | None | +66 | Village of Sun.
| Approximately 544 feet upstream from intersection with Benson Rd | None | +94
Horse Branch Tributary 1 | Approximately 710 feet upstream of Horse Branch Road intersection | None | +31 | Unincorporated Areas of St. Tammany Parish.
| Approximately 4,450 feet upstream of Lake Ramsey Road intersection | None | +59
Horse Branch Tributary 2 | Approximately 1,000 feet downstream of Horse Branch Road | None | +36 | Unincorporated Areas of St. Tammany Parish.
| Approximately 250 feet upstream of Lake Ramsey Road intersection | None | +49
Horse Branch Tributary 2 Unnamed Tributary | Approximately 320 feet downstream of Lake Ramsey Road intersection | None | +38 | Unincorporated Areas of St. Tammany Parish.
| Approximately 4,121 feet upstream of Lake Ramsey Road | None | +47
House Creek | Confluence with Bogue Chitto River | None | +92 | Unincorporated Areas of St. Tammany Parish.
| Approximately 130 feet upstream of La Tung Road | None | +138
LA 36 North Tributary | Approximately 233 feet downstream of Tammany Trace Bike Trail | None | +24 | Town of Abita Springs.
| Approximately 4,800 feet upstream of Danny Park Drive intersection | None | +32
Lake Pontchartrain | Base Flood Elevation changes ranging from 10 to 16 feet in the form of Coastal AE/VE zones have been made | +9-13 | +10-16 | Town of Madisonville, Town of Mandeville, City of Slidell, Unincorporated Areas of St. Tammany Parish.
Lateral B | Approximately 50 feet upstream of State Route 437 (North Lee Road) | None | +27 | Unincorporated Areas of St. Tammany Parish.
| Approximately 680 feet upstream of Airport Road intersection | None | +37
Lateral B Tributary 1 | Confluence with Lateral B | None | +28 | Unincorporated Areas of St. Tammany Parish.
| Approximately 240 feet upstream of Springwood Drive intersection | None | +31
Little Brushy Branch | Confluence with Pearl River Canal | None | +50 | Unincorporated Areas of St. Tammany Parish.
| Approximately 600 feet upstream of Jim Williams Road intersection | None | +82
Little Creek | Approximately 75 feet upstream of Strain Road intersection | None | +29 | Unincorporated Areas of St. Tammany Parish.
| Approximately 7,223 feet upstream of Strain Road intersection | None | +31
Little Gum Creek | Confluence with Gum Creek | None | +24 | Town of Pearl River.
| Approximately 2,260 feet upstream of Easy Street intersection | None | +35
Long Branch | Confluence with Abita River | None | +29 | Town of Abita Springs, Unincorporated Areas of St. Tammany Parish.
| Approximately 1,100 feet upstream of Cleland Road intersection | None | +94
Long Branch Tributary | Confluence with Long Branch | None | +30 | Unincorporated Areas of St. Tammany Parish.
| Approximately 3,735 feet upstream of Tarpon Springs Drive intersection | None | +41
Long Branch Tributary 2 | Confluence with Long Branch | None | +39 | Unincorporated Areas of St. Tammany Parish, Town of Abita Springs.
| Approximately 5,150 feet upstream of Longleaf Drive intersection | None | +58
Mayhaw Branch | Confluence with Bayou Chinchuba | None | +15 | Unincorporated Areas of St. Tammany Parish.
| Approximately 1,500 feet upstream of State Route 59 intersection | None | +22
Mile Branch Tributary 1 | Confluence with Mile Branch | None | +24 | Unincorporated Areas of St. Tammany Parish, City of Covington.
| Approximately 485 feet downstream of M P Planche Road | None | +42
Mill Creek | Confluence with Bogue Chitto River | None | +68 | Unincorporated Areas of St. Tammany Parish.
| Approximately 40 feet downstream of Dad Penton Road intersection | None | +108
Mill Creek Tributary 1 | Confluence with Mill Creek | None | +86 | Unincorporated Areas of St. Tammany Parish.
| Approximately 245 feet downstream of Blue Heron Road | None | +137
Moses Branch | Confluence with Talisheek Creek | None | +45 | Unincorporated Areas of St. Tammany Parish.
| Approximately 3,371 feet upstream of Ogise Richardson Road | None | +65
Mule Bay | Confluence with English Branch | None | +51 | Unincorporated Areas of St. Tammany Parish.
| Approximately 3,030 feet downstream of State Route 435 intersection | None | +67
Nichols Creek | Confluence with Crooked Bayou | None | +71 | Unincorporated Areas of St. Tammany Parish.
| Approximately 1,500 feet upstream of State Route 16 intersection | None | +90
Old River | Approximately 1,000 feet downstream of confluence with Holden's Creek | None | +64 | Unincorporated Areas of St. Tammany Parish, Village of Sun.
| Confluence of Bogue Chitto River | None | +75
Parc du Lac | Confluence with Bayou Chinchuba | None | +12 | Unincorporated Areas of St. Tammany Parish, Town of Mandeville.
| Approximately 230 feet downstream of U.S. Highway 190 intersection | None | +12
Pearl River | Approximately 9 miles downstream of State Route 59 | None | +13 | Unincorporated Areas of St. Tammany Parish.
| Louisiana /Mississippi State Line | None | +61
Pearl River Canal | Confluence with West Pearl River | None | +28 | Unincorporated Areas of St. Tammany Parish.
| Approximately 9,900 feet from Lock #3 Rd | None | +61
Ponchitolawa Creek | Confluence with Tchefuncte River | +9 | +10 | Unincorporated Areas of St. Tammany Parish.
| Approximately 3,730 upstream of Jeffrie Street intersection | None | +33
Ponchitolawa Creek Tributary 2 | Approximately 690 feet upstream of confluence with Ponchitolawa Creek | None | +30 | Unincorporated Areas of St. Tammany Parish.
| Approximately 5,700 feet upstream of Marion Street intersection | None | +33
Pound Branch | Confluence with Talisheek Creek | None | +67 | Unincorporated Areas of St. Tammany Parish.
| Approximately 368 feet downstream of Dillard Road | None | +84
Pound Branch Tributary 1 | From confluence with Pound Branch | None | +71 | Unincorporated Areas of St. Tammany Parish.
| Approximately 1,650 feet upstream of confluence with Pound Branch Tributary 1 | None | +75
Simmons Creek | Confluence with Bogue Chitto River | None | +65 | Unincorporated Areas of St. Tammany Parish.
| Approximately 3,312 feet upstream of Confluence with Simmons Creek Tributary 1 | None | +123
Simmons Creek Tributary 1 | Confluence with Simmons Creek | None | +113 | Unincorporated Areas of St. Tammany Parish.
| Approximately 312 feet upstream of Turkey Ridge Road intersection | None | +163
Soap & Tallow Branch | Approximately 1,650 feet downstream of North White Chapel Road intersection | None | +22 | Unincorporated Areas of St. Tammany Parish.
| Approximately 70 feet downstream of Goslee Road intersection | None | +31
Soap & Tallow Branch Tributary 1 | Confluence with Soap & Tallow Branch | None | +21 | Unincorporated Areas of St. Tammany Parish.
| Approximately 5,899 feet upstream of confluence with Turnpike Rd | None | +25
Soap & Tallow Branch Tributary 1 Unnamed Tributary | Confluence with Soap & Tallow Branch Tributary 1 | None | +23 | Unincorporated Areas of St. Tammany Parish.
| Approximately 5,446 feet upstream of confluence with Soap & Tallow Branch Tributary 1 | None | +26
Southwind Branch | Intersection with Tammany Trace Bike Trail/Railroad | None | +29 | Unincorporated Areas of St. Tammany Parish.
| Approximately 450 feet upstream of Hickory Highway intersection | None | +35
Spanish Fork | Confluence with Abita Creek | None | +69 | Unincorporated Areas of St. Tammany Parish.
| Approximately 6,577 feet upstream of confluence with Abita Creek | None | +118
Stratman Branch | Confluence with Tenmile Branch | None | +65 | Unincorporated Areas of St. Tammany Parish.
| Approximately 4,468 feet upstream of confluence with Tenmile Branch | None | +75
Talisheek Creek | Confluence with Pearl River Canal | None | +44 | Unincorporated Areas of St. Tammany Parish.
| Confluence of Pound Branch | None | +68
Talisheek Creek Tributary 1 | Confluence with Talisheek Creek | None | +51 | Unincorporated Areas of St. Tammany Parish.
| Approximately 6,275 feet upstream of confluence with Talisheek Creek | None | +63
Tchefuncte River Tributary 1 | Confluence with Tchefuncte River | None | +11 | Unincorporated Areas of St. Tammany Parish.
| Approximately 165 feet downstream of State Route 190 | None | +20
Tchefuncte River Tributary 2 | Confluence with Tchefuncte River | None | +13 | Unincorporated Areas of St. Tammany Parish.
| Approximately 5,200 feet upstream of Tyler Street intersection | None | +17
Tchefuncte River Tributary 3 | Confluence with Tchefuncte River | None | +17 | City of Covington.
| Approximately 370 feet upstream of West 21st Street intersection | None | +28
Tenmile Branch | Confluence with Abita Creek | None | +57 | Unincorporated Areas of St. Tammany Parish.
| Approximately 1,700 feet upstream of State Route 21 intersection | None | +127
Timber Branch | Confluence with Tchefuncte River | None | +15 | Unincorporated Areas of St. Tammany Parish.
| Approximately 3,100 feet upstream of Lake Placid Drive intersection | None | +22
Tributary Canal | Approximately 100 feet upstream of Infantry Drive intersection | None | +17 | Unincorporated Areas of St. Tammany Parish.
| Approximately 3,640 feet upstream of intersection with Igloo Rd | None | +21
Unnamed Creek 8 | Approximately 600 feet downstream of State Route 22 intersection | +10 | +11 | Unincorporated Areas of St. Tammany Parish.
| Approximately 3,350 feet upstream of State Route 22 intersection | None | +17
Upper Bayou | From confluence with Bayou Chinchuba | None | +16 | Unincorporated Areas of St. Tammany Parish.
| Approximately 1,600 feet upstream of intersection with Tammany Trace Bike trail | None | +28
Waterhole Branch | Confluence with Talisheek Creek | None | +68 | Unincorporated Areas of St. Tammany Parish.
| Approximately 1,100 feet downstream of Railroad Avenue intersection | None | +83
West Pearl River | Approximately 4,300 feet upstream of Interstate 10 intersection | None | +12 | Unincorporated Areas of St. Tammany Parish.
| Confluence with Pearl Canal | None | +28
Wright's Creek | Confluence with Bogue Chitto River | +60 | +62 | Village of Sun.
| Approximately 500 feet upstream of Kings Road intersection | None | +84
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Covington
Maps are available for inspection at 609 North Columbia, Covington, LA 70433.
City of Slidell
Maps are available for inspection at 2056 Second St., Slidell, LA 70459.
Town of Abita Springs
Maps are available for inspection at 22161 Level St., Abita Springs, LA 70420.
Town of Madisonville
Maps are available for inspection at 403 St. Francis St., Madisonville, LA 70447.
Town of Mandeville
Maps are available for inspection at 3101 E. Causeway Approach, Mandeville, LA 70448.
Town of Pearl River
Maps are available for inspection at 39460 Willis Alley, Pearl River, LA 70452.
Unincorporated Areas of St. Tammany Parish
Maps are available for inspection at 21490 Koop Dr., Mandeville, LA 70471.
Village of Folsom
Maps are available for inspection at 84321 Railroad Ave., Folsom, LA 70437.
Village of Sun
Maps are available for inspection at 30285 Lock 3 Rd., Sun, LA 70463.
Chippewa County, Wisconsin, and Incorporated Areas
Chippewa River | Just upstream of the Jim Falls Dam Powerhouse | +961 | +955 | Unincorporated Areas of Chippewa County, City of Cornell.
| Just downstream of the Cornell Dam | +981 | +980
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Cornell
Maps are available for inspection at City Hall, 222 Main Street, Cornell, WI 54732.
Unincorporated Areas of Chippewa County
Maps are available for inspection at Clerk's Office, 711 North Bridge Street, Room 109, Chippewa Falls, WI 54729.

(Catalog of Federal Domestic Assistance No. 97.022, “Flood Insurance.”)

Dated: August 4, 2008.
David I. Maurstad,
Federal Insurance Administrator of the National Flood Insurance Program, Department of Homeland Security, Federal Emergency Management Agency.

[FR Doc. E8-18529 Filed 8-11-08; 8:45 am]

BILLING CODE 9110-12-P